DEPARTMENT OF VETERANS AFFAIRS

[OMB Control No. 2900-0577]

Agency Information Collection (Award Attachment for Certain Children With Disabilities Born of Vietnam Veterans) Activity Under OMB Review

AGENCY: Veterans Benefits Administration, Department of Veterans Affairs.

ACTION: Notice.

SUMMARY: In compliance with the Paperwork Reduction Act (PRA) of 1995 (44 U.S.C. 3501-21), this notice announces that the Veterans Benefits Administration, Department of Veterans Affairs, will submit the collection of information abstracted below to the Office of Management and Budget (OMB) for review and comment. The PRA submission describes the nature of the information collection and its expected cost and burden and it includes the actual data collection instrument.

DATES: Comments must be submitted on or before November 20, 2015.

ADDRESSES: Submit written comments on the collection of information through www.Regulations.gov, or to Office of Information and Regulatory Affairs, Office of Management and Budget, Attn: VA Desk Officer; 725 17th St. NW., Washington, DC 20503 or sent through electronic mail to oira_submission@omb.eop.gov. Please refer to “OMB Control No. 2900-0577” in any correspondence. During the comment period, comments may be viewed online through the FDMS.

FOR FURTHER INFORMATION CONTACT: Crystal Rennie, Enterprise Records Service (005R1B), Department of Veterans Affairs, 810 Vermont Avenue NW., Washington, DC 20420, (202) 632-7492 or email crystal.rennie@va.gov. Please refer to “OMB Control No. 2900-0577” in any correspondence.

SUPPLEMENTARY INFORMATION: Title: Award Attachment for Certain Children with Disabilities Born of Vietnam Veterans (VA Form 21-0307).

OMB Control Number: 2900-0577.

Type of Review: Revision of a currently approved collection.

Abstract

VA Form 21-0307 provides information to a child of a Vietnam Veteran with spina bifida or certain birth defects to inform them of potential entitlement to VA health care benefits and vocational training programs. Without the information provided on this form, potentially eligible children would not be able to apply for these benefits.

An agency may not conduct or sponsor, and a person is not required to respond to a collection of information unless it displays a currently valid OMB control number. The Federal Register Notice with a 60-day comment period soliciting comments on this collection of information was published on July 24, 2015 at [80 FR 142, page 44198].

Affected Public: Individuals or Households.

Estimated Annual Burden: 19 hours.

Estimated Average Burden per Respondent: 15 minutes.

Frequency of Response: One time.

Estimated Number of Respondents: 75.

By direction of the Secretary.
Kathleen M. Manwell,
Program Analyst, VA Privacy Service, Office of Privacy and Records Management, Department of Veterans Affairs.

[FR Doc. 2015-26656 Filed 10-20-15; 8:45 am]

BILLING CODE 8320-01-P